DEPARTMENT OF COMMERCE

National Oceanic and Atmospheric Administration

Notice Requesting Nominations for the Advisory Committee on Commercial Remote Sensing (ACCRES)

SUMMARY: The Advisory Committee on Commercial Remote Sensing (ACCRES) was constituted to advise the Secretary of Commerce through the Under Secretary of Commerce for Oceans and Atmosphere on matters relating to the U.S. commercial remote sensing industry and NOAA's activities to carry out responsibilities of the Department of Commerce set forth in the Land Remote Sensing Policy Act of 1992 (15 U.S.C. Secs. 5621-5625). The Committee is composed of leaders in the commercial space-based remote sensing industry, space-based remote sensing data users, government (Federal, state, local), and academia. The Department of Commerce is seeking up to six highly qualified individuals knowledgeable about the commercial space-based remote sensing industry and uses of space-based remote sensing data to serve on the Committee.

DATES: Nominations must be postmarked on or before November 8, 2007.

SUPPLEMENTARY INFORMATION: ACCRES was established by the Secretary of Commerce (Secretary) on May 21, 2002, to advise the Secretary through the Under Secretary of Commerce for Oceans and Atmosphere on matters relating to the U.S. commercial remote sensing industry and NOAA's activities to carry out responsibilities of the Department of Commerce set forth in the Land Remote Sensing Policy Act of 1992 (15 U.S.C. Secs. 5621-5625).

The Committee meets at least twice a year. Committee members serve in a representative capacity for a term of two years and may serve up to two consecutive terms, if reappointed. No less than 12 and no more than 15 individuals may serve on the Committee. Membership is comprised of highly qualified individuals representing the commercial space-based remote sensing industry, space-based remote sensing data users, government (Federal, state, local), and academia from a balance of geographical regions. Nominations are encouraged from all interested persons and organizations representing interests affected by the U.S. commercial space-based remote sensing industry. Nominees must possess demonstrable expertise in a field related to the space-based commercial remote sensing industry or exploitation of space-based commercial remotely sensed data and be able to attend committee meetings that are held at least two times per year. In addition, selected candidates must apply for and obtain a security clearance. Membership is voluntary, and service is without pay.

Each nomination submission should include the proposed committee member's name and organizational affiliation, a cover letter describing the nominee's qualifications and interest in serving on the Committee, a curriculum vitae or resume of the nominee, and no more than three supporting letters describing the nominee's qualifications and interest in serving on the Committee. Self-nominations are acceptable. The following contact information should accompany each submission: The nominee's name, address, phone number, fax number, and e-mail address, if available.

Nominations should be sent to David Hasenauer, NOAA/NESDIS International and Interagency Affairs, 1335 East West Highway, Room 7311, Silver Spring, Maryland 20910 and nominations must be received by November 8, 2007. The full text of the Committee Charter and its current membership can be viewed at the Agency's Web page at http://www.accres.noaa.gov/index.html.

FOR FURTHER INFORMATION CONTACT: David Hasenauer, NOAA/NESDIS International and Interagency Affairs, 1335 East West Highway, Room 7311, Silver Spring, Maryland 20910; telephone (301) 713-2024 x207, fax (301) 713-2032, e-mail David Hasenauer@noaa.gov.

Mary E. Kicza,
Assistant Administrator for Satellite and Information Services.

[FR Doc. E7-19791 Filed 10-5-07; 8:45 am]

BILLING CODE 3510-HR-P